DEPARTMENT OF COMMERCE

International Trade Administration

[A-428-840]

Lightweight Thermal Paper From Germany: Notice of Final Results of the First Antidumping Duty Administrative Review

AGENCY: Import Administration, International Trade Administration, Department of Commerce.

SUMMARY: On December 23, 2009, the Department of Commerce (“the Department”) published the notice of initiation of this antidumping duty administrative review naming Mitsubishi HiTec Paper Flensburg GmbH, Mitsubishi HiTec Paper Bielefeld GmbH and Mitsubishi International Corporation (“collectively, Mitsubishi”) and Papierfabrik August Koehler AG (“Koehler”) as respondents. As a result of petitioner's withdrawal of its request for review, we rescinded this review, in part, with respect to Mitsubishi.¹ On December 14, 2010, the Department published the preliminary results of the first administrative review for the antidumping duty order on lightweight thermal paper from Germany.² The review covers one manufacturer/exporter: Koehler. The period of review (POR) is November 20, 2008, through October 31, 2009.

¹ See Lightweight Thermal Paper from Germany: Notice of Partial Rescission of Antidumping Duty Administrative Review, 75 FR 11135 (March 10, 2010).

² See Lightweight Thermal Paper From Germany: Notice of Preliminary Results of Antidumping Duty Administrative Review, 75 FR 77831 (December 14, 2010) (“Preliminary Results”).

As a result of our analysis of the comments received, the final results differ from the preliminary results for Koehler. The final weighted-average dumping margin for this company is listed below in the “Final Results of Review” section of this notice.

DATES: Effective Date: April 20, 2011.

FOR FURTHER INFORMATION CONTACT: Stephanie Moore or George McMahon, AD/CVD Operations, Office 3, Import Administration, International Trade Administration, U.S. Department of Commerce, 14th Street and Constitution Avenue, NW., Washington, DC 20230; telephone: (202) 482-3692 and (202) 482-1167, respectively.

SUPPLEMENTARY INFORMATION:

Background

On August 16, 2010, the Department published the preliminary results of the first administrative review of the antidumping duty order on lightweight thermal paper from Germany. See Preliminary Results.

Petitioner submitted a case brief on January 27, 2011. Koehler submitted a rebuttal brief on February 4, 2011.³

³ Koehler submitted a timely rebuttal brief on February 3, 2011; however, the Department rejected this brief because it contained new factual information.

Scope of the Order

The scope of this order includes certain lightweight thermal paper, which is thermal paper with a basis weight of 70 grams per square meter (g/m²) (with a tolerance of ± 4.0 g/m²) or less; irrespective of dimensions; ⁴ with or without a base coat ⁵ on one or both sides; with thermal active coating(s) ⁶ on one or both sides that is a mixture of the dye and the developer that react and form an image when heat is applied; with or without a top coat; ⁷ and without an adhesive backing. Certain lightweight thermal paper is typically (but not exclusively) used in point-of-sale applications such as ATM receipts, credit card receipts, gas pump receipts, and retail store receipts. The merchandise subject to this order may be classified in the Harmonized Tariff Schedule of the United States (“HTSUS”) under subheadings 3703.10.60, 4811.59.20, 4811.90.8020, 4811.90.8040, 4811.90.9010, 4811.90.9090, 4820.10.20, and 4823.40.00.⁸ Although HTSUS subheadings are provided for convenience and customs purposes, the written description of the scope of this order is dispositive.

⁴ LWTP is typically produced in jumbo rolls that are slit to the specifications of the converting equipment and then converted into finished slit rolls. Both jumbo and converted rolls (as well as LWTP in any other form, presentation, or dimension) are covered by the scope of these orders.

⁵ A base coat, when applied, is typically made of clay and/or latex and like materials and is intended to cover the rough surface of the paper substrate and to provide insulating value.

⁶ A thermal active coating is typically made of sensitizer, dye, and co-reactant.

⁷ A top coat, when applied, is typically made of polyvinyl acetone, polyvinyl alcohol, and/or like materials and is intended to provide environmental protection, an improved surface for press printing, and/or wear protection for the thermal print head.

⁸ HTSUS subheading 4811.90.8000 was a classification used for LWTP until January 1, 2007. Effective that date, subheading 4811.90.8000 was replaced with 4811.90.8020 (for gift wrap, a non-subject product) and 4811.90.8040 (for “other” including LWTP). HTSUS subheading 4811.90.9000 was a classification for LWTP until July 1, 2005. Effective that date, subheading 4811.90.9000 was replaced with 4811.90.9010 (for tissue paper, a non-subject product) and 4811.90.9090 (for “other,” including LWTP). See Memorandum to the File, dated February 9, 2011, regarding the addition of HTSUS numbers: 4811.90.8020 and 4811.90.9010, per the request of the National Import Specialist of Customs and Border Protection.

Analysis of Comments Received

All issues raised in the case and rebuttal briefs by parties to this administrative review are addressed in the Issues and Decision Memorandum, dated concurrent with this notice and which is hereby adopted by this notice. A list of the issues which parties have raised, and to which we have responded in the Issues and Decision Memorandum, is attached to this notice as an Appendix. In addition, a complete version of the Issues and Decision Memorandum can be accessed directly on the Web at http://ia.ita.doc.gov/frn/, and is on file in the Central Records Unit, main Commerce Building, Room 7046. The paper copy and electronic version of the Issues and Decision Memorandum are identical in content.

Changes From the Preliminary Results

As a result of the Department's analysis of comments received, we have made a certain change to the calculations of the company-specific weighted-average margin for Koehler. Specifically, we have revised our treatment of the monthly rebates reported in the field REBATE1H. In the Preliminary Results, the Department preliminarily accepted these rebates. However, based upon further review of the information on the record and the comments received, we find that the monthly rebates (“monatsbonus”) reported by Koehler are not supported by record evidence. Accordingly, we have disallowed the monthly rebates reported in field REBATE1H, for these final results. See the Issues and Decision Memorandum, dated April 13, 2011.

Final Results of Review

We determine that the following weighted-average margins exist for the period November 20, 2008, through October 31, 2009:

Manufacturer/exporter | Weighted-average margin (percent)
Papierfabrik August Koehler AG | 3.77

Duty Assessment

We have been enjoined from liquidating entries of the subject merchandise produced and exported by Koehler. Therefore, we do not intend to issue liquidation instructions to U.S. Customs and Border Protection (CBP) for such entries covered by this administrative review, until the preliminary injunction issued on February 5, 2009, is lifted.

Upon lifting of the injunction, the Department shall determine and CBP shall assess antidumping duties on all appropriate entries. Pursuant to 19 CFR 351.212(b)(1), the Department calculates an assessment rate for each importer of the subject merchandise for each respondent. If any importer-specific assessment rates calculated in the final results are above de minimis (i.e., at or above 0.5 percent), the Department will issue appraisement instructions directly to CBP to assess antidumping duties on appropriate entries.

To determine whether the duty assessment rates covering the period were de minimis, in accordance with the requirement set forth in 19 CFR 351.106(c)(2), for each respondent we calculated importer (or customer)-specific ad valorem rates by aggregating the dumping margins calculated for all U.S. sales to that importer or customer and dividing this amount by the total entered value of the sales to that importer (or customer). Where an importer (or customer)-specific ad valorem rate is greater than de minimis, and the respondent has reported reliable entered values, we apply the assessment rate to the entered value of the importer's/customer's entries during the review period. Where an importer (or customer)- specific ad valorem rate is greater than de minimis and we do not have reliable entered values, we calculate a per-unit assessment rate by aggregating the dumping duties due for all U.S. sales to each importer (or customer) and dividing this amount by the total quantity sold to that importer (or customer).

The Department clarified its “automatic assessment” regulation on May 6, 2003. See Antidumping and Countervailing Duty Proceedings: Assessment of Antidumping Duties, 68 FR 23954 (May 6, 2003). This clarification will apply to entries of subject merchandise during the POR produced by the respondent for which it did not know its merchandise was destined for the United States. In such instances, we will instruct CBP to liquidate unreviewed entries at the all-others rate if there is no rate for the intermediate company(ies) involved in the transaction. For a full discussion of this clarification, see Antidumping and Countervailing Duty Proceedings Assessment of Antidumping Duties, 68 FR 23954 (May 6, 2003).

Cash Deposit Requirements

The following antidumping duty deposit rates will be effective upon publication of the final results of this administrative review for all shipments of lightweight thermal paper from Germany entered, or withdrawn from warehouse, for consumption on or after the publication date of these final results, as provided for by section 751(a)(1) of the Tariff Act of 1930, as amended (the Act): (1) If the exporter is not a firm covered in this review, but was covered in a previous review or the original less-than-fair-value (LTFV) investigation, the cash deposit rate will continue to be the company-specific rate established for the most recent period; (2) if the exporter is not a firm covered in this review, a prior review, or the LTFV investigation, but the manufacturer is, the cash deposit rate will be the rate established for the most recent period for the manufacturer of the subject merchandise; and (3) if neither the exporter nor the manufacturer is a firm covered by this review, a prior review, or the LTFV investigation, the cash deposit rate will be 6.50 percent, the all-others rate established in the LTFV investigation. See Antidumping Duty Orders: Lightweight Thermal Paper from Germany and the People's Republic of China, 73 FR 70959 (November 24, 2008). These cash deposit requirements shall remain in effect until further notice.

Notification to Importers

This notice serves as a final reminder to importers of their responsibility under 19 CFR 351.402(f)(2) to file a certificate regarding the reimbursement of antidumping and/or countervailing duties prior to liquidation of the relevant entries during this review period. Failure to comply with this requirement could result in the Secretary's presumption that reimbursement of antidumping and/or countervailing duties occurred and the subsequent increase in antidumping duties by the amount of antidumping and/or countervailing duties reimbursed.

Notification Regarding APOs

This notice also serves as a reminder to parties subject to administrative protective orders (APO) of their responsibility concerning the disposition of proprietary information disclosed under APO in accordance with 19 CFR 351.305(a)(5). Timely written notification of the return/destruction of APO materials or conversion to judicial protective order is hereby requested. Failure to comply with the regulations and terms of an APO is a sanctionable violation.

This administrative review and notice are in accordance with sections 751(a)(1) and 777(i)(1) of the Act.

Dated: April 13, 2011.
Ronald K. Lorentzen,
Deputy Assistant Secretary for Import Administration.

Appendix I

List of Comments in the Issues and Decision Memorandum

Comment 1: Whether Koehler's Sales of the KT 48 F20 Product in Germany Constituted a Fictitious Market.

Comment 2: Whether Koehler's Home Market Sales of the KT 48 F20 Product Were Outside the Ordinary Course of Trade.

Comment 3: Whether the Department Should Disallow Certain Post-Sale Price Adjustments Reported in the REBATE1H Field.

Comment 4: Whether the Department Should Reallocate Monthly Rebates (REBATE1H) on a Customer-Specific Basis.

[FR Doc. 2011-9574 Filed 4-19-11; 8:45 am]

BILLING CODE 3510-DS-P